DEPARTMENT OF AGRICULTURE

Office of the Secretary

2 CFR Subtitle B, Ch. IV

5 CFR Ch. LXXIII

7 CFR Subtitle A; Subtitle B, Chs. I-XI, XIV-XVIII, XX, XXV-XXXVIII, XLII

9 CFR Chs. I-III

36 CFR Ch. II

48 CFR Ch. 4

Semiannual Regulatory Agenda, Fall 2022

AGENCY: Office of the Secretary, USDA.

ACTION: Semiannual Regulatory Agenda.

SUMMARY: This agenda provides summary descriptions of significant and not significant regulations being developed in agencies of the U.S. Department of Agriculture (USDA) in conformance with Executive Orders (E.O.) 12866, “Regulatory Planning and Review,” and 13563, “Improving Regulation and Regulatory Review.” The agenda also describes regulations affecting small entities as required by section 602 of the Regulatory Flexibility Act, Public Law 96-354. This agenda also identifies regulatory actions that are being reviewed in compliance with section 610(c) of the Regulatory Flexibility Act. We invite public comment on those actions as well as any regulation consistent with Executive Order 13563.

USDA has attempted to list all regulations and regulatory reviews pending at the time of publication except for minor and routine or repetitive actions, but some may have been inadvertently missed. There is no legal significance to the omission of an item from this listing. Also, the dates shown for the steps of each action are estimated and are not commitments to act on or by the date shown.

USDA's complete regulatory agenda is available online at www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

For this edition of the USDA regulatory agenda, the most important regulatory actions are summarized in a Statement of Regulatory Priorities that is included in the Regulatory Plan, which appears in both the online regulatory agenda and in part II of the Federal Register that includes the abbreviated regulatory agenda.

FOR FURTHER INFORMATION CONTACT: For further information on any specific entry shown in this agenda, please contact the person listed for that action. For general comments or inquiries about the agenda, please contact Mr. Michael Poe, Office of Budget and Program Analysis, U.S. Department of Agriculture, Washington, DC 20250, (202) 720-3257.

Dated: September 30, 2022.
Michael Poe,
Legislative and Regulatory Staff.

Agricultural Marketing Service—Prerule Stage
Sequence No. | Title | Regulation Identifier No.
227 | Inert Ingredients in Pesticides for Organic Production (AMS-NOP-21-0008) | 0581-AE02

Agricultural Marketing Service—Proposed Rule Stage
Sequence No. | Title | Regulation Identifier No.
228 | Inclusive Competition and Market Integrity Under the Packers and Stockyards Act (AMS-FTPP-21-0045) (Reg Plan Seq No. 2) | 0581-AE05
229 | Natural Grass Sod Promotion, Research, and Information Order (AMS-LP-21-0028) | 0581-AE07
230 | Organic Market Development for Mushrooms and Pet Food (AMS-NOP-22-0063) | 0581-AE13
References in boldface appear in The Regulatory Plan in part II of this issue of the Federal Register.

Agricultural Marketing Service—Final Rule Stage
Sequence No. | Title | Regulation Identifier No.
231 | Strengthening Organic Enforcement (AMS-NOP-17-0065) | 0581-AD09
232 | Dairy Donation Program (AMS-DA-21-0013) | 0581-AE00
233 | Preserving Trust Benefits Under the Packers and Stockyards Act (AMS-FTPP-21-0015) | 0581-AE01
234 | Transparency in Poultry Grower Contracting and Tournaments (AMS-FTPP-21-0044) (Reg Plan Seq No. 4) | 0581-AE03
235 | Organic Livestock and Poultry Standards (AMS-NOP-21-0073) (Reg Plan Seq No. 5) | 0581-AE06
References in boldface appear in The Regulatory Plan in part II of this issue of the Federal Register.

Agricultural Marketing Service—Long-Term Actions
Sequence No. | Title | Regulation Identifier No.
236 | Organic Aquaculture Standards | 0581-AD34
237 | Organic Apiculture Production Standards | 0581-AE12

Agricultural Marketing Service—Completed Actions
Sequence No. | Title | Regulation Identifier No.
238 | Organic Mushroom Standards | 0581-AE14

Animal and Plant Health Inspection Service—Proposed Rule Stage
Sequence No. | Title | Regulation Identifier No.
239 | Animal Disease Traceability; Electronic Identification | 0579-AE64
240 | Revision to Horse Protection Act Regulations | 0579-AE70
241 | AQI User Fees | 0579-AE71
242 | Importation of Bovine Meat From Paraguay | 0579-AE73

Animal and Plant Health Inspection Service—Final Rule Stage
Sequence No. | Title | Regulation Identifier No.
243 | Establishing AWA Standards for Birds | 0579-AE61

Animal and Plant Health Inspection Service—Long-Term Actions
Sequence No. | Title | Regulation Identifier No.
244 | National List of Reportable Animal Diseases | 0579-AE39
245 | Microchipping, Verifiable Signatures, Government Official Endorsement, and Mandatory Forms for Importation of Live Dogs; Cage Standards for Domestic Dogs | 0579-AE58

Food and Nutrition Service—Proposed Rule Stage
Sequence No. | Title | Regulation Identifier No.
246 | Special Supplemental Nutrition Program for Women, Infants and Children (WIC): WIC Online Ordering and Transactions and Food Delivery Revisions to Meet the Needs of a Modern, Data-Driven Program | 0584-AE85

Food and Nutrition Service—Long-Term Actions
Sequence No. | Title | Regulation Identifier No.
247 | National School Lunch and School Breakfast Programs: School Food Service Account Revenue Amendments Related to the Healthy, Hunger-Free Kids Act of 2010 | 0584-AE11
248 | Modernizing Supplemental Nutrition Assistance Program (SNAP) Benefit Redemption Systems | 0584-AE37
249 | Providing Regulatory Flexibility for Retailers in the Supplemental Nutrition Assistance Program (SNAP) | 0584-AE61
250 | Strengthening Integrity and Reducing Retailer Fraud in the Supplemental Nutrition Assistance Program (SNAP) | 0584-AE71

Forest Service—Completed Actions
Sequence No. | Title | Regulation Identifier No.
251 | Special Uses—Communications Uses Rent | 0596-AD43

DEPARTMENT OF AGRICULTURE (USDA)

Agricultural Marketing Service (AMS)

Prerule Stage

227. Inert Ingredients in Pesticides for Organic Production (AMS-NOP-21-0008) [0581-AE02]

Legal Authority: 7 U.S.C. 6501 to 6524

Abstract: Based on comments received from the advance notice of proposed rulemaking, this proposed rule seeks public comment on recommendations to replace outdated references in USDA's organic regulations to U.S. Environmental Protection Agency (EPA) policy on inert ingredients in pesticides. Inerts, also known as other ingredients, are any substances other than the active ingredient that are intentionally added to pesticide products. References to outdated EPA policy appear in the USDA organic regulations in the National List of Allowed and Prohibited Substances (National List) and identify the inert ingredients allowed in pesticides for organic production.

Timetable:

Action | Date | FR Cite
ANPRM | 09/02/22 | 87 FR 54173
ANPR Comment Period Extended | 10/11/22 | 87 FR 61268
ANPRM Comment Period End | 11/01/22 |
ANPRM Comment Period Extended End | 12/31/22 |
NPRM | 09/00/23 |

Regulatory Flexibility Analysis Required: Yes.

Agency Contact: Jennifer Tucker, Deputy Administrator, USDA National Organic Program, Department of Agriculture, Agricultural Marketing Service, 1400 Independence Avenue SW, Washington, DC 20250, Phone: 202 260-8077, Email: jennifer.tucker@usda.gov.

RIN: 0581-AE02

DEPARTMENT OF AGRICULTURE (USDA)

Agricultural Marketing Service (AMS)

Proposed Rule Stage

228. Inclusive Competition and Market Integrity Under the Packers and Stockyards Act (AMS-FTPP-21-0045) [0581-AE05]

Regulatory Plan: This entry is Seq. No. 2 in part II of this issue of the Federal Register.

RIN: 0581-AE05

229. Natural Grass Sod Promotion, Research, and Information Order (AMS-LP-21-0028) [0581-AE07]

Legal Authority: 7 U.S.C. 7411 to 7425

Abstract: This action invites comments on the establishment of an industry-funded promotion, research, and information program for natural grass sod products. The proposed Natural Grass Sod Promotion, Research, and Information Order was submitted to the U.S. Department of Agriculture by Turfgrass Producers International, a group of natural grass sod producers. The program would conduct research, marketing, and promotion activities that will benefit the entire industry. Primary goals of the program include educating consumers and stakeholders of the benefits of natural grass and providing producers with marketing tools they can use to grow their business. The goals identified in this proposed rule would only attainable through a national research and promotion program for natural grass sod.

Timetable:

Action | Date | FR Cite
NPRM | 04/00/23 |

Regulatory Flexibility Analysis Required: Yes.

Agency Contact: Jeana Harbison, Deputy Director of Livestock and Poultry Program, Department of Agriculture, Agricultural Marketing Service, Washington, DC 20024, Phone: 202 690-3192, Email: jeana.m.harbison@usda.gov.

RIN: 0581-AE07

230. Organic Market Development for Mushrooms and Pet Food (AMS-NOP-22-0063) [0581-AE13]

Legal Authority: 7 U.S.C. 6501

Abstract: This action seeks comments on the proposed amendments to USDA organic regulations that would (a) develop organic pet food standards and (b) establish standards for the organic production and certification of mushrooms. The title and scope of proposed action “Organic Pet Food Standards” has been revised to include the establishment of standards for the production and certification of mushrooms, which was previously proposed under withdrawn RIN 0851-AE14.

Timetable:

Action | Date | FR Cite
NPRM | 05/00/23 |

Regulatory Flexibility Analysis Required: Yes.

Agency Contact: Jennifer Tucker, Deputy Administrator, USDA National Organic Program, Department of Agriculture, Agricultural Marketing Service, 1400 Independence Avenue SW, Washington, DC 20250, Phone: 202 260-8077, Email: jennifer.tucker@usda.gov.

RIN: 0581-AE13

DEPARTMENT OF AGRICULTURE (USDA)

Agricultural Marketing Service (AMS)

Final Rule Stage

231. Strengthening Organic Enforcement (AMS-NOP-17-0065) [0581-AD09]

Legal Authority: 7 U.S.C. 6501

Abstract: The Strengthening Organic Enforcement (SOE) final rule will amend the USDA organic regulations to strengthen oversight and enforcement of the production, handling, and sale of organic agricultural products.

Topics addressed in this rule include: Applicability of the regulations and exemptions from organic certification; National Organic Program Import Certificates; recordkeeping and product traceability; certifying agent personnel qualifications and training; standardized certificates of organic operation; unannounced on-site inspections of certified operations; oversight of certification activities; foreign conformity assessment systems; certification of grower group operations; labeling of nonretail containers; annual update requirements for certified operations; compliance and appeals processes; and calculating organic content of multi-ingredient products.

Timetable:

Action | Date | FR Cite
Proposed Rule | 08/05/20 | 85 FR 47536
Comment Period End | 10/05/20 |
Final Rule | 12/00/22 |

Regulatory Flexibility Analysis Required: Yes.

Agency Contact: Jennifer Tucker, Deputy Administrator, USDA National Organic Program, Department of Agriculture, Agricultural Marketing Service, 1400 Independence Avenue SW, Washington, DC 20250, Phone: 202 260-8077, Email: jennifer.tucker@usda.gov.

RIN: 0581-AD09

232. Dairy Donation Program (AMS-DA-21-0013) [0581-AE00]

Legal Authority: Pub. L. 116-260, sec. 762

Abstract: This rulemaking will finalize the Dairy Donation Program, which was authorized in the Consolidated Appropriations Act of 2021. The Dairy Donation Program is a voluntary program that reimburses eligible dairy organizations for milk used to make eligible dairy products donated to non-profit groups for distribution to low-income persons.

Timetable:

Action | Date | FR Cite
Interim Final Rule | 09/01/21 | 86 FR 48887
Interim Final Rule Comment Period End | 11/01/21 |
Final Rule | 02/00/23 |

Regulatory Flexibility Analysis Required: Yes.

Agency Contact: Erin Taylor, Acting Director, Order Formulation and Enforcement Division, Department of Agriculture, Agricultural Marketing Service, Dairy Program, 1400 Independence Avenue SW, Room 2969-S, Washington, DC 20250, Phone: 202 720-7311, Email: erin.taylor@ams.usda.gov.

RIN: 0581-AE00

233. Preserving Trust Benefits Under the Packers and Stockyards Act (AMS-FTPP-21-0015) [0581-AE01]

Legal Authority: Pub. L. 116-260, sec. 763

Abstract: This action will revise the Packers and Stockyards regulations to add provisions for written notifications related to the new livestock dealer trust. The revisions will outline the process for livestock sellers to notify livestock dealers and the Secretary of the seller's intent to preserve their interest in trust benefits should the dealer fail to pay for livestock purchased. The revisions will also require livestock sellers to acknowledge in writing that they forfeit rights to the dealer trust under the terms of credit sales to dealers. These provisions will mirror existing regulatory provisions related to livestock and poultry sales under the Packers and Stockyards Act.

Timetable:

Action | Date | FR Cite
NPRM | 05/05/22 | 87 FR 26695
NPRM Comment Period End | 06/06/22 |
Final Rule | 01/00/23 |

Regulatory Flexibility Analysis Required: Yes.

Agency Contact: Stuart Frank, Division Director, Packers and Stockyards Division, Department of Agriculture, Agricultural Marketing Service, Federal Building; Room 917, 210 Walnut Street, Des Moines, IA 50309, Phone: 515 323-2586, Email: stuart.frank@usda.gov.

RIN: 0581-AE01

234. Transparency in Poultry Grower Contracting and Tournaments (AMS-FTPP-21-0044) [0581-AE03]

Regulatory Plan: This entry is Seq. No. 4 in part II of this issue of the Federal Register.

RIN: 0581-AE03

235. Organic Livestock and Poultry Standards (AMS-NOP-21-0073) [0581-AE06]

Regulatory Plan: This entry is Seq. No. 5 in part II of this issue of the Federal Register.

RIN: 0581-AE06

DEPARTMENT OF AGRICULTURE (USDA)

Agricultural Marketing Service (AMS)

Long-Term Actions

236. Organic Aquaculture Standards [0581-AD34]

Legal Authority: 7 U.S.C. 6501 to 6522

Abstract: This action proposes to establish standards for organic production and certification of farmed aquatic animals and their products in the USDA organic regulations. This action would also add aquatic animals as a scope of certification and accreditation under the National Organic Program (NOP).

Timetable:

Action | Date | FR Cite
NPRM | To Be Determined

Regulatory Flexibility Analysis Required: Yes.

Agency Contact: Jennifer Tucker, Phone: 202 260-8077, Email: jennifer.tucker@usda.gov.

RIN: 0581-AD34

237. Organic Apiculture Production Standards [0581-AE12]

Legal Authority: 7 U.S.C. 6501

Abstract: This action proposes to amend the USDA organic regulations to reflect an October 2010 recommendation submitted to the Secretary by the National Organic Standards Board (NOSB) concerning the production of organic apicultural (or beekeeping) products.

Timetable:

Action | Date | FR Cite
NPRM | To Be Determined

Regulatory Flexibility Analysis Required: Yes.

Agency Contact: Jennifer Tucker, Phone: 202 260-8077, Email: jennifer.tucker@usda.gov.

RIN: 0581-AE12

DEPARTMENT OF AGRICULTURE (USDA)

Agricultural Marketing Service (AMS)

Completed Actions

238. Organic Mushroom Standards [0581-AE14]

Legal Authority: 7 U.S.C. 6501 to 6524

Abstract: This action, proposing to establish standards for the organic production and certification of mushrooms in the USDA organic regulations, is being withdrawn and combined with the action proposing to develop organic pet food standards (RIN 0581-AE13).

Completed:

Reason | Date | FR Cite
Withdrawn | 09/15/22 |

Regulatory Flexibility Analysis Required: Yes.

Agency Contact: Jennifer Tucker, Phone: 202 260-8077, Email: jennifer.tucker@usda.gov.

RIN: 0581-AE14

BILLING CODE 3410-02-P

DEPARTMENT OF AGRICULTURE (USDA)

Animal and Plant Health Inspection Service (APHIS)

Proposed Rule Stage

239. Animal Disease Traceability; Electronic Identification [0579-AE64]

Legal Authority: 7 U.S.C. 8301 et seq.

Abstract: This action would amend APHIS' animal disease traceability regulations, currently codified at 9 CFR part 86. The primary proposed change would require that beginning June 30, 2023, APHIS would only recognize identification devices (e.g., eartags) as official identification for cattle and bison covered by the regulations if the devices have both visual and electronic readability (EID). Other proposed changes are intended to clarify language and requirements in several sections of part 86. These changes would enhance the U.S. traceability system to better achieve goals of rapidly tracing diseased and exposed animals and containing outbreaks.

Timetable:

Action | Date | FR Cite
NPRM | 12/00/22 |
NPRM Comment Period End | 02/00/23 |

Regulatory Flexibility Analysis Required: Yes.

Agency Contact: Dr. Aaron Scott Ph.D., DACVPM, Director, Department of Agriculture, Animal and Plant Health Inspection Service, National Animal Disease Traceability and Veterinary Accreditation Center, APHIS Veterinary Services Strategy and Policy, 2150 Centre Avenue, Building B (Mail Stop 3E87), Fort Collins, CO 80526, Phone: 970 494-7249, Email: traceability@usda.gov.

RIN: 0579-AE64

240. Revision to Horse Protection Act Regulations [0579-AE70]

Legal Authority: 15 U.S.C. 1823

Abstract: Current Horse Protection Act (HPA) regulations require Designated Qualified Persons (DQPs) to be licensed directly through Horse Industry Organizations (HIOs). DQPs conduct inspections of horses at HIO-affiliated shows, sales, auctions, and exhibitions to determine compliance with the HPA. We are proposing to amend the Horse Protection regulations by eliminating the role of HIOs and DQPs as inspectors at horse shows, exhibitions, sales, and auctions, and assigning inspection authority solely to Animal and Plant Health Inspection Service (APHIS) Veterinary Medical Officers and other persons authorized by APHIS. Other changes are also being contemplated.

Timetable:

Action | Date | FR Cite
NPRM | 12/00/22 |
NPRM Comment Period End | 02/00/23 |

Regulatory Flexibility Analysis Required: Yes.

Agency Contact: Lance Bassage, VMD, Director, National Policy Staff, Animal Care, Department of Agriculture, Animal and Plant Health Inspection Service, 4700 River Road Unit 84, Riverdale, MD 20737, Phone: 301 851-3748, Email: lance.h.bassage@usda.gov.

RIN: 0579-AE70

241. AQI User Fees [0579-AE71]

Legal Authority: 21 U.S.C. 136a

Abstract: We are proposing multiple revisions to our AQI user fee regulations in order to facilitate full cost recovery as required by 21 U.S.C. 136a. We are proposing to update the fees using more current operational data, as well as update the fees to incorporate recurring costs such as capital improvements and staffing needs. Inflation would also be incorporated into our model. Other changes are also being contemplated.

Timetable:

Action | Date | FR Cite
NPRM | 03/00/23 |
NPRM Comment Period End | 05/00/23 |

Regulatory Flexibility Analysis Required: Yes.

Agency Contact: George Balady, PEIP Cost and Fee Analysis, PPQ, Department of Agriculture, Animal and Plant Health Inspection Service, 4700 River Road, Riverdale, MD 20737, Phone: 301 851-2338.

RIN: 0579-AE71

242. Importation of Bovine Meat From Paraguay [0579-AE73]

Legal Authority: 7 U.S.C. 450; 7 U.S.C. 7701 to 7772; 7 U.S.C. 7781 to 7786; 7 U.S.C. 8301 to 8317; 21 U.S.C. 136 and 136a; 31 U.S.C. 9701

Abstract: We are proposing to amend the regulations governing the importation of certain animals, meat, and other animal products by allowing, under certain conditions, the importation of fresh (chilled or frozen) beef from Paraguay. Based on the evidence from a risk analysis, we have determined that fresh beef can safely be imported from Paraguay, provided certain conditions are met. This action would provide for the importation of fresh beef from Paraguay into the United States while continuing to protect the United States against the introduction of foot-and-mouth disease.

Timetable:

Action | Date | FR Cite
NPRM | 01/00/23 |
NPRM Comment Period End | 03/00/23 |

Regulatory Flexibility Analysis Required: Yes.

Agency Contact: Ingrid Kotowski, Regionalization Evaluation Services, VS, Department of Agriculture, Animal and Plant Health Inspection Service, 920 Main Campus Drive, Suite 200, Raleigh, NC 27606, Phone: 919 855-7732.

RIN: 0579-AE73

DEPARTMENT OF AGRICULTURE (USDA)

Animal and Plant Health Inspection Service (APHIS)

Final Rule Stage

243. Establishing AWA Standards for Birds [0579-AE61]

Legal Authority: 7 U.S.C. 2131 to 2159

Abstract: This rulemaking would extend APHIS enforcement of the Animal Welfare Act (AWA) to birds, other than birds bred for use in research. This would help ensure the humane care and treatment of such birds.

Timetable:

Action | Date | FR Cite
NPRM | 02/22/22 | 87 FR 9880
NPRM Comment Period End | 04/25/22 |
NPRM Comment Period Extended | 04/22/22 | 87 FR 24072
NPRM Comment Period Extended End | 05/25/22 |
Final Rule | 02/00/23 |

Regulatory Flexibility Analysis Required: Yes.

Agency Contact: Dr. Cody Yager, DVM, MPH, Avian Specialist, Animal Care, Department of Agriculture, Animal and Plant Health Inspection Service, 4700 River Road Unit 84, Riverdale, MD 20737, Phone: 970 494-7478, Email: cody.m.yager@usda.gov.

RIN: 0579-AE61

DEPARTMENT OF AGRICULTURE (USDA)

Animal and Plant Health Inspection Service (APHIS)

Long-Term Actions

244. National List of Reportable Animal Diseases [0579-AE39]

Legal Authority: 7 U.S.C. 8301 to 8317

Abstract: This rulemaking amends our disease regulations to provide for a National List of Reportable Animal Diseases, along with reporting responsibilities for animal health professionals that encounter or suspect cases of communicable animal diseases and disease agents. The changes are necessary to streamline State and Federal cooperative animal disease detection, response, and control efforts. This action will consolidate and enhance current disease reporting mechanisms, and it will complement and supplement existing animal disease tracking and reporting at the State level.

Timetable:

Action | Date | FR Cite
NPRM | 04/02/20 | 85 FR 18471
NPRM Comment Period End | 06/01/20 |
NPRM Comment Period Reopened | 08/18/20 | 85 FR 50796
NPRM Comment Period Reopened End | 08/21/20 |
Next Action Undetermined

Regulatory Flexibility Analysis Required: Yes.

Agency Contact: Jane Rooney, Phone: 970 494-7397

RIN: 0579-AE39

245. Microchipping, Verifiable Signatures, Government Official Endorsement, and Mandatory Forms for Importation of Live Dogs; Cage Standards for Domestic Dogs [0579-AE58]

Legal Authority: 7 U.S.C. 2131 to 2159

Abstract: We are proposing to amend the regulations regarding the importation of live dogs by requiring all live dogs imported into the United States for resale purposes to be microchipped for permanent identification, and to require importers to procure a microchip reader and make it available to port-of-entry officials as requested. This action would also add microchipping as one of three identification options for dogs and cats used by dealers, exhibitors and research facilities. In addition, APHIS is proposing to require a verifiable signature on the health certificate and rabies certificate accompanying imported live dogs, an endorsement of the health certificate by a government official in the country of origin, and the mandatory use of forms provided by APHIS. Additionally, we are proposing to update cage standards for dogs held domestically by dealers or exhibitors who are licensed under the Animal Welfare Act or used in research at registered facilities. Other changes are also being contemplated.

Timetable:

Action | Date | FR Cite
NPRM | 12/00/23 |

Regulatory Flexibility Analysis Required: Yes.

Agency Contact: Lance Bassage, Phone: 301 851-3748, Email: lance.h.bassage@usda.gov.

RIN: 0579-AE58

BILLING CODE 3410-34-P

DEPARTMENT OF AGRICULTURE (USDA)

Food and Nutrition Service (FNS)

Proposed Rule Stage

246. Special Supplemental Nutrition Program for Women, Infants and Children (WIC): WIC Online Ordering and Transactions and Food Delivery Revisions To Meet the Needs of a Modern, Data-Driven Program [0584-AE85]

Legal Authority: Pub. L. 111-296

Abstract: This rule addresses key regulatory barriers to online ordering in the WIC Program by making changes to the provisions that prevent online transactions and types of online capable stores from participating in the Program. This rule will also allow FNS to modernize WIC vendor regulations that do not reflect current technology and facilitate the Program's transition to EBT.

Timetable:

Action | Date | FR Cite
NPRM | 02/00/23 |

Regulatory Flexibility Analysis Required: Yes.

Agency Contact: Michael DePiro, Department of Agriculture, Food and Nutrition Service, 1320 Braddock Place, Alexandria, VA 22314, Phone: 703 305-2876, Email: michael.depiro@usda.gov.

Maureen Lydon, Department of Agriculture, Food and Nutrition Service, 1320 Braddock Place, Alexandria, VA 22314, Phone: 703 457-7713, Email: maureen.lydon@usda.gov.

RIN: 0584-AE85

DEPARTMENT OF AGRICULTURE (USDA)

Food and Nutrition Service (FNS)

Long-Term Actions

247. National School Lunch and School Breakfast Programs: School Food Service Account Revenue Amendments Related to the Healthy, Hunger-Free Kids Act of 2010 [0584-AE11]

Legal Authority: Pub. L. 111-296

Abstract: This rule amends National School Lunch Program (NSLP) regulations to conform to requirements contained in the Healthy, Hunger-Free Kids Act of 2010 regarding equity in school lunch pricing and revenue from non-program foods sold in schools. This rule requires school food authorities (SFAs) participating in the NSLP to provide the same level of financial support for lunches served to students who are not eligible for free or reduced-price lunches as is provided for lunches served to students eligible for free lunches. This rule also requires that all food sold in a school and purchased with funds from the nonprofit school food service account other than meals and supplements reimbursed by the Department of Agriculture must generate revenue at least proportionate to the cost of such foods.

Timetable:

Action | Date | FR Cite
Interim Final Rule | 06/17/11 | 76 FR 35301
Interim Final Rule Effective | 07/01/11 |
Interim Final Rule Comment Period End | 09/15/11 |
Final Rule | 05/00/24 |

Regulatory Flexibility Analysis Required: Yes.

Agency Contact: Michael DePiro, Phone: 703 305-2876, Email: michael.depiro@usda.gov.

Maureen Lydon, Phone: 703 457-7713, Email: maureen.lydon@usda.gov.

RIN: 0584-AE11

248. Modernizing Supplemental Nutrition Assistance Program (SNAP) Benefit Redemption Systems [0584-AE37]

Legal Authority: Pub. L. 113-79

Abstract: The Food and Nutrition Service (FNS) will propose changes that collectively modernize SNAP benefit issuance and increase program integrity while streamlining program administration, offering greater flexibility to State agencies, and improving customer service. The rule will propose to codify provisions of the 2014 Farm Bill, the 2018 Farm Bill, and respond to 2018 OIG audit findings. The rule will propose to codify 2014 Farm Bill provisions requiring most SNAP-authorized retailers to pay the costs associated with EBT equipment, supplies and related services and requirements pertaining to the online SNAP payment option. This rule would also propose to codify waivers that have been granted to State agencies to implement practices that have proven beneficial as the EBT system has developed and matured, address Disaster-SNAP requirements for on-going households, and update EBT system technical and functional requirements.

Timetable:

Action | Date | FR Cite
NPRM | 05/00/24 |

Regulatory Flexibility Analysis Required: Yes.

Agency Contact: Charles H. Watford, Phone: 703 605-0800, Email: charles.watford@usda.gov.

Maureen Lydon, Phone: 703 457-7713, Email: maureen.lydon@usda.gov.

RIN: 0584-AE37

249. Providing Regulatory Flexibility for Retailers in the Supplemental Nutrition Assistance Program (SNAP) [0584-AE61]

Legal Authority: Pub. L. 113-79; 7 U.S.C. 2011 to 2036

Abstract: The Agricultural Act of 2014 amended the Food and Nutrition Act of 2008 to increase the requirement that certain Supplemental Nutrition Assistance Program (SNAP) authorized retail food stores have available on a continuous basis at least three varieties of items in each of four staple food categories, to a mandatory minimum of seven varieties. The Food and Nutrition Service (FNS) codified these mandatory requirements. Subsequent annual Agency appropriations bill language prohibited implementation of certain final rule provisions. In response, this change will provide some retailers participating in SNAP as authorized food stores with more flexibility in meeting the enhanced SNAP eligibility requirements.

Timetable:

Action | Date | FR Cite
NPRM | 04/05/19 | 84 FR 13555
NPRM Comment Period End | 06/04/19 |
NPRM Comment Period Reopened | 06/14/19 | 84 FR 27743
NPRM Comment Period Reopen End | 06/20/19 |
Final Action | 04/00/25 |

Regulatory Flexibility Analysis Required: Yes.

Agency Contact: Charles H. Watford, Phone: 703 605-0800, Email: charles.watford@usda.gov.

Maureen Lydon, Phone: 703 457-7713, Email: maureen.lydon@usda.gov.

RIN: 0584-AE61

250. Strengthening Integrity and Reducing Retailer Fraud in the Supplemental Nutrition Assistance Program (SNAP) [0584-AE71]

Legal Authority: Pub. L. 113-79; Pub. L. 115-334

Abstract: This proposed rule would implement statutory provisions of the Food, Conservation, and Energy Act of 2008 (the 2008 Farm Bill), the Agriculture Improvement Act of 2018 (the 2018 Farm Bill), and other language intended to deter retailer fraud, abuse, and non-compliance in the Supplemental Nutrition Assistance Program (SNAP).

Timetable:

Action | Date | FR Cite
NPRM | 07/00/24 |

Regulatory Flexibility Analysis Required: Yes.

Agency Contact: Charles H. Watford, Phone: 703 605-0800, Email: charles.watford@usda.gov.

Maureen Lydon, Phone: 703 457-7713, Email: maureen.lydon@usda.gov.

RIN: 0584-AE71

BILLING CODE 3410-30-P

DEPARTMENT OF AGRICULTURE (USDA)

Forest Service (FS)

Completed Actions

251. Special Uses—Communications Uses Rent [0596-AD43]

Legal Authority: 43 U.S.C. 1761 to 1771

Abstract: Consistent with the requirement in title V, section 504 (g) of the Federal Land Policy and Management Act, the proposed rule would update the Forest Service's rental fee schedule for communications uses based on market value. Updated rental fees that exceed 100 percent of current rental fees would be phased in over a 3-year period. USDA is coordinating development of the information base to support this rulemaking with the Department of the Interior. This proposed rule is being removed from the Forest Service's regulatory agenda because the Forest Service will revise the existing rental fee schedule for communications uses in Forest Service Handbook 2709.11, chapter 90, by publishing a proposed directive for public comment under 36 CFR part 216, rather than by publishing a proposed rule. This approach is consistent with implementation of the rental fee schedule for communications uses in 1996. The Forest Service and the U.S. Department of the Interior's Bureau of Land Management have the same rental fee schedule for communications uses and will coordinate updating of the schedule through public notice and comment.

Completed:

Reason | Date | FR Cite
Withdrawn | 11/16/22 |

Regulatory Flexibility Analysis Required: Yes.

Agency Contact: Edwina Howard-Agu, Phone: 202 205-1419, Email: edwina.howard-agu@usda.gov.

RIN: 0596-AD43

[FR Doc. 2023-02023 Filed 2-21-23; 8:45 am]

BILLING CODE 3410-11-P